FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011733-033.

Title: Common Ocean Carrier Platform Agreement.

Parties: A.P. Moller-Maersk A/S; CMA CGM; Hamburg-Süd; Hapag-Lloyd AG; Mediterranean Shipping Company S.A.; and United Arab Shipping Company (S.A.G.) as shareholder parties, and American President Lines, Ltd., APL Co., Pte Ltd.; Alianca Navegacao e Logistica Ltda.; China Shipping Container Lines Company Limited; Compania Chilena de Navegacion Interoceanica S.A.; Compania Sud Americana de Vapores, S.A.; Companhia Libra de Navegacao; COSCO Container Lines Co., Ltd.; Emirates Shipping Lines; Evergreen Line Joint Service Agreement; Gold Star Line, Ltd.; Hanjin Shipping Co., Ltd.; Hyundai Merchant Marine Co. Ltd; Industrial Maritime Carriers, LLC; Kawasaki Kisen Kaisha, Ltd.; MISC Berhad; Mitsui O.S.K. Lines Ltd.; Nippon Yusen Kaisha; Norasia Container Lines Limited; Safmarine MPV N.V.; Tasman Orient Line C.V.; U.S. Ocean, LLC; Yang Ming Marine Transport Corporation and Zim Integrated Shipping Services, Ltd. as non-shareholder parties.

Filing Party: Wayne R. Rohde, Esq.; Cozen O'Connor; 1627 I Street NW., Suite 1100; Washington, DC 20006.

Synopsis: The amendment deletes Intermarine LLC as a party to the agreement and adds Industrial Maritime Carriers, LLC and U.S. Ocean, LLC as non-shareholder parties.

Agreement No.: 012155-002.

Title: MSC/Zim South America East Coast Vessel Sharing Agreement.

Parties: Mediterranean Shipping Co. S.A. and Zim Integrated Shipping Services Ltd.

Filing Party: Wayne R. Rohde, Esq.; Cozen O'Connor; 1627 I Street NW., Suite 1100; Washington, DC 20006-4007.

Synopsis: The amendment would delete Mexico from the geographic scope of the agreement, revise the number of service strings, revise the number and size of vessels deployed, and adjust space allocations under the agreement. The amendment would also extend the minimum duration of the agreement and restate the agreement.

Agreement No.: 012279.

Title: Hyundai Glovis/Inarme Space Charter Agreement.

Parties: Hyundai Glovis Co. Ltd. and Industria Armamento Meridionale S.P.A. (Inarme).

Filing Party: Wayne Rohde, Esq.; Cozen O'Connor; 1627 I Street NW., Suite 1100; Washington, DC 20006.

Synopsis: The agreement authorizes Hyundai Glovis to charter space to Inarme in the trade from North Europe, on the one hand, to the port of San Diego, CA, on the other hand.

By Order of the Federal Maritime Commission.
Dated: May 16, 2014.
Karen V. Gregory,
Secretary.

[FR Doc. 2014-11809 Filed 5-21-14; 8:45 am]

BILLING CODE 6730-01-P